DEPARTMENT OF COMMERCE

[Docket No.: 150720624-5832-02]

Privacy Act of 1974, New System of Records

AGENCY: National Oceanic and Atmospheric Administration, Commerce.

ACTION: Notice of Privacy Act System of Records: “COMMERCE/NOAA-23; Economic Data Collection Program for West Coast Groundfish Trawl Catch Share Program off the coast of Washington, Oregon, and California.”

SUMMARY: The Department of Commerce publishes this notice to announce the effective date of a Privacy Act System of Records notice entitled COMMERCE/NOAA-23; Economic Data Collection Program for West Coast Groundfish Trawl Catch Share Program off the coast of Washington, Oregon, and California.

DATES: The system of records becomes effective on September 15, 2015.

ADDRESSES: For a copy of the system of records please mail requests to: Sarah Brabson, NOAA Office of the Chief Information Officer, Room 9856, 1315 East-West Highway, Silver Spring, MD 20910.

FOR FURTHER INFORMATION CONTACT: Erin Steiner, NOAA Fisheries, Northwest Fisheries Science Center, FRAM Division, 2725 Montlake Boulevard East, Seattle, WA 98112.

SUPPLEMENTARY INFORMATION: On August 7, 2015 (80 FR 47454), the Department of Commerce published a notice in the Federal Register requesting comments on a proposed new Privacy Act System of Records notice entitled COMMERCE/NOAA-23; Economic Data Collection Program for West Coast Groundfish Trawl Catch Share Program off the coast of Washington, Oregon, and California. No comments were received in response to the request for comments. By this notice, the Department of Commerce is adopting the proposed new system as final without changes effective September 15, 2015.

Dated: September 9, 2015.
Michael J. Toland,
Department of Commerce, Acting Freedom of Information and Privacy Act Officer.

[FR Doc. 2015-23127 Filed 9-14-15; 8:45 am]

BILLING CODE 3510-22-P